DEPARTMENT OF JUSTICE

Notice of Lodging of Proposed Consent Decree Under the Clean Air Act

On October 23, 2012, the Department of Justice lodged a proposed consent decree with the United States District Court for the District of Hawaii in the lawsuit entitled United States v. County of Maui, Hawaii, Civil Action No. CV 12 00571 LEK RLP.

In this action, the United States filed a complaint under the Clean Air Act alleging violations at the Central Maui Municipal Solid Waste Landfill located on the island of Maui in Hawaii. The consent decree requires the County to implement injunctive relief including conducting enhanced gas monitoring, complying with interim wellhead temperature limits and implementing fire response procedures. The consent decree also requires the County to pay a civil penalty of $380,000 and to perform a Supplemental Environmental Project (“the SEP”). The SEP requires the County to install and operate at least eight wind turbines at the Landfill property.

The publication of this notice opens a period for public comment on the consent decree. Comments should be addressed to the Assistant Attorney General, Environment and Natural Resources Division, and should refer to United States v. County of Maui, Hawaii, D.J. Ref. No. 90-5-2-1-09360. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC. 20044-7611.

During the public comment period, the consent decree may be examined and downloaded at this Justice Department Web site: http://www.usdoj.gov/enrd/Consent_Decrees.html. We will provide a paper copy of the consent decree upon written request and payment of reproduction costs. Please mail your request and payment to:

Consent Decree Library, U.S. DOJ—ENRD, P.O. Box 7611, Washington, DC 20044-7611.

Please enclose a check or money order for $14.25 (25 cents per page reproduction cost) payable to the United States Treasury.

Henry Friedman,
Assistant Section Chief, Environmental Enforcement Section, Environment and Natural Resources Division.

[FR Doc. 2012-26551 Filed 10-29-12; 8:45 am]

BILLING CODE 4410-15-P